DEPARTMENT OF AGRICULTURE

Submission for OMB Review; Comment Request

January 22, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by February 27, 2013 will be considered. Written comments should be addressed to: Desk Officer for Agriculture, Office of Information and Regulatory Affairs, Office of Management and Budget (OMB), New Executive Office Building, 725 17th Street NW., Washington, DC, 20503. Commentors are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Objection to New Land Management Plans, Plan Amendments, and Plan Revisions

OMB Control Number: 0596-0158.

Summary of Collection: The process for submitting objections to new land management plans, plan amendments, and plan revisions is set forth in 36 CFR part 219, subpart B. An objector must provide their name, mailing address, telephone number, and identify the specific proposed plan, amendment, or revision that is the subject of the objection. This is the minimum information needed for a citizen or organization to explain the nature of and rational for objections to new land management plans, plan amendments, and plan revisions.

This information must accompany a concise statement explaining how the environmental disclosure documents, if any, and proposed plan, amendment, or revision are inconsistent with law, regulation, Executive Order, or policy and any recommendations for change. The Reviewing Officer then reviews the objection(s) and relevant information and responds to the objector(s) in writing.

Need and Use of the Information: The information collected (objections to new land management plans, plan amendments, and plan revisions) is analyzed and responded to by a Forest Service official. At times, this information is used to modify land and resource management planning decisions. Forest supervisors and regional forests that make decisions on land and resource management planning also use the information. Without this information, the agency's decision-making will suffer from a reduction in public input and agency relationships with the public will deteriorate.

Description of Respondents: Individuals or households; Business or other for-profit; Not-for-profit institutions; State, Local or Tribal Government.

Number of Respondents: 36.

Frequency of Responses: Reporting: Other (once).

Total Burden Hours: 360.

Charlene Parker,
Departmental Information Collection Clearance Officer.

[FR Doc. 2013-01601 Filed 1-25-13; 8:45 am]

BILLING CODE 3410-11-P